DEPARTMENT OF DEFENSE

Office of the Secretary

Defense Science Board

AGENCY: Department of Defense.

ACTION: Notice of advisory committee meetings.

SUMMARY: The Defense Science Board Task Force on Corrosion Control will meet in closed sessions on February 2-3, 2004; February 25-26, 2004; April 21-22, 2004, and May 10-11, 2004, in Arlington, VA (exact location to be determined). The Task Force will address corrosion control throughout a combat system's life cycle: design, construction, operation and maintenance.

The mission of the Defense Science Board is to advise the Secretary of Defense and the Under Secretary of Defense for Acquisition, Technology & Logistics on scientific and technical matters as they affect the perceived needs of the Department of Defense. At these meetings, the Task Force will assess current on-going corrosion control efforts across the Department of Defense with particular attention to: Duplication for research efforts; application of current and future technology which currently exists in one area to other areas (i.e., submarine applications which might translate to aircraft applications); the current state of operator and maintenance personnel training with regard to corrosion control and prevention; the current state of maintenance processes with regard to corrosion control and prevention; the incorporation of corrosion control and maintainability in current acquisition programs (during the design and manufacturing stages); the identity of unique environments important to National Security but with little commercial application (e.g., nuclear weapons). The Task Force will conduct an analysis of the findings generated and determine which areas, if adequate resources were applied, would provide the most significant advances in combat readiness. In addition, the Task Force will assess best commercial practices and determine their applicability to DOD needs.

In accordance with section 10(d) of the Federal Advisory Committee Act, Pub. L. 92-463, as amended (5 U.S.C. App. II), it has been determined that these Defense Science Board Task Force meetings concern matters listed in 5 U.S.C. 552b(c)(1) and that, accordingly, the meetings will be closed to the public.

Dated: December 19, 2003.
Patricia L. Toppings,
Alternate OSD Federal Register Liaison Officer, Department of Defense.

[FR Doc. 03-31923 Filed 12-29-03; 8:45 am]

BILLING CODE 5001-06-M